DEPARTMENT OF COMMERCE

International Trade Administration

[A-357-822, A-301-804, A-729-804, A-421-814, A-517-806, A-583-868, A-489-842, A-520-809]

Prestressed Concrete Steel Wire Strand From Argentina, Colombia, Egypt, the Netherlands, Saudi Arabia, Taiwan, the Republic of Turkey, and the United Arab Emirates: Antidumping Duty Orders

AGENCY: Enforcement and Compliance, International Trade Administration, Department of Commerce.

SUMMARY: Based on affirmative final determinations by the Department of Commerce (Commerce) and the International Trade Commission (ITC), Commerce is issuing antidumping duty orders on prestressed concrete steel wire strand (PC strand) from Argentina, Colombia, Egypt, the Netherlands, Saudi Arabia, Taiwan, the Republic of Turkey (Turkey), and the United Arab Emirates (UAE).

DATES: Applicable February 1, 2021.

FOR FURTHER INFORMATION CONTACT: Kabir Archuletta at (202) 482-2593 (Argentina), Hermes Pinilla at (202) 482-3477 (Colombia), David Crespo at (202) 482-3693 (Egypt), Bryan Hansen at (202) 482-3683 (the Netherlands), Drew Jackson at (202) 482-4406 (Saudi Arabia), Joy Zhang at (202) 482-1168 (Taiwan), David Goldberger at (202) 482-4136 (Turkey), and Charles Doss at (202) 482-4474 (UAE); AD/CVD Operations, Enforcement and Compliance, International Trade Administration, U.S. Department of Commerce, 1401 Constitution Avenue NW, Washington, DC 20230.

SUPPLEMENTARY INFORMATION:

Background

In accordance with sections 735(d) and 777(i)(1) of the Tariff Act of 1930, as amended (the Act), and 19 CFR 351.210(c), on December 11, 2020, Commerce published its affirmative final determinations in the less-than-fair-value (LTFV) investigations of PC strand from Argentina, Colombia, Egypt, the Netherlands, Saudi Arabia, Taiwan, Turkey, and the UAE.¹ On January 25, 2021, the ITC notified Commerce of its final affirmative determinations that an industry in the United States is materially injured within the meaning of section 735(b)(1)(A)(i) of the Act, by reason of the LTFV imports of PC strand from Argentina, Colombia, Egypt, the Netherlands, Saudi Arabia, Taiwan, Turkey, and the UAE.²

¹ See Prestressed Concrete Steel Wire Strand from Argentina, Colombia, Egypt, the Netherlands, Saudi Arabia, Taiwan, the Republic of Turkey, and the United Arab Emirates: Final Affirmative Determinations of Sales at Less Than Fair Value and Final Affirmative Critical Circumstances Determinations, in Part, 85 FR 80001 (December 11, 2020) (Final Determinations).

² See ITC's Letter Re: Notification of ITC Final Determinations, dated January 25, 2021 (ITC Notification Letter).

Scope of the Orders

The merchandise covered by these orders is PC strand. For a complete description of the scope of the orders, see the appendix to this notice.

Antidumping Duty Orders

On January 25, 2021, in accordance with sections 735(b)(1)(A)(i) and 735(d) of the Act, the ITC notified Commerce of its final determinations that an industry in the United States is materially injured by reason of imports of PC strand from Argentina, Colombia, Egypt, the Netherlands, Saudi Arabia, Taiwan, Turkey, and the UAE.³ Therefore, Commerce is issuing these antidumping duty orders in accordance with sections 735(c)(2) and 736 of the Act. Because the ITC determined that imports of PC strand from Argentina, Colombia, Egypt, the Netherlands, Saudi Arabia, Taiwan, Turkey, and the UAE are materially injuring a U.S. industry, unliquidated entries of such merchandise from Argentina, Colombia, Egypt, the Netherlands, Saudi Arabia, Taiwan, Turkey, and the UAE, which are entered or withdrawn from warehouse for consumption, are subject to the assessment of antidumping duties.

³ See ITC Notification Letter.

Therefore, in accordance with section 736(a)(1) of the Act, Commerce will direct U.S. Customs and Border Protection (CBP) to assess, upon further instruction by Commerce, antidumping duties equal to the amount by which the normal value of the merchandise exceeds the export price (or constructed export price) of the merchandise, for all relevant entries of PC strand from Argentina, Colombia, Egypt, the Netherlands, Saudi Arabia, Taiwan, Turkey, and the UAE. Antidumping duties will be assessed on unliquidated entries of PC strand from Argentina, Colombia, Egypt, the Netherlands, Saudi Arabia, Taiwan, Turkey, and the UAE entered, or withdrawn from warehouse, for consumption on or after September 30, 2020, the date of publication of the Preliminary Determinations.⁴

⁴ See Prestressed Concrete Steel Wire Strand from Argentina, Colombia, Egypt, the Netherlands, Saudi Arabia, the Republic of Turkey, and the United Arab Emirates: Preliminary Affirmative Determinations of Sales at Less Than Fair Value and Preliminary Affirmative Critical Circumstances Determinations, in Part, 85 FR 61722 (September 30, 2020); see also Prestressed Concrete Steel Wire Strand From Taiwan: Preliminary Affirmative Determination of Sales at Less Than Fair Value and Negative Preliminary Determination of Critical Circumstances, 85 FR 61726 (September 30, 2020) (collectively, Preliminary Determinations).

Continuation of Suspension of Liquidation

In accordance with section 736 of the Act, Commerce will instruct CBP to continue to suspend liquidation on all relevant entries of PC strand from Argentina, Colombia, Egypt, the Netherlands, Saudi Arabia, Taiwan, Turkey, and the UAE which are entered, or withdrawn from warehouse, for consumption on or after the date of publication of the ITC's notice of final determination in the Federal Register. These instructions suspending liquidation will remain in effect until further notice.

We will also instruct CBP to require cash deposits for estimated antidumping duties equal to the amounts as indicated below. Accordingly, effective on the date of publication in the Federal Register of the ITC's final affirmative injury determinations, CBP will require, at the same time as importers would normally deposit estimated duties on this subject merchandise, a cash deposit equal to the cash deposit rates listed below.⁵ The relevant all-others rate applies to all producers or exporters not specifically listed, as appropriate.

⁵ See section 736(a)(3) of the Act.

Estimated Weighted-Average Dumping Margins

The dumping margins for each antidumping duty order are as follows:

⁶ The cash deposit rates for Celik Halat ve Tel Sanayi A.S., Güney Çelik Hasir ve Demir (Güney Çelik), and the companies covered by the “All Others” rate are equal to the petition rate (53.65 percent) adjusted for the lowest rate of export subsidies found for any company in the most recently-completed segment in the companion countervailing duty proceeding, i.e, Güney Çelik's total export subsidies rate of 9.05 percent. See Prestressed Concrete Steel Wire Strand from the Republic of Turkey: Final Affirmative Countervailing Duty Determination and Final Negative Critical Circumstances Determination, 85 FR 80005 (December 11, 2020), and accompanying Issues and Decision Memorandum at 12-16; and Prestressed Concrete Steel Wire from the Republic of Turkey: Preliminary Affirmative Countervailing Duty Determination, Preliminary Affirmative Critical Circumstances Determination, in Part, 85 FR 59287 (September 21, 2020), and accompanying Preliminary Decision Memorandum at 18-20, 25-27, and 31-33.

Exporter/producer | Dumping margin (percent) | Cash deposit rate ⁶ (percent)
Argentina
Acindar Industria (Argentina) de Sinal S.A | 60.40
All Others | 60.40
Colombia
Knight S.A.S | 86.09
All Others | 86.09
Egypt
United Wires Company Elsewedy | 29.72
All Others | 29.72
The Netherlands
Nedri Spanstaal BV | 30.86
All Others | 30.86
Saudi Arabia
National Metal Manufacturing & Casting Co | 194.40
All Others | 194.40
Taiwan
Chia Ta World Co., Ltd | 23.89
All Others | 23.89
Turkey
Celik Halat ve Tel Sanayi A.S | 53.65 | 44.60
Güney Çelik Hasir ve Demir | 53.65 | 44.60
All Others | 53.65 | 44.60
United Arab Emirates
GSS International Trading FZE | 170.65
Gulf Steel Strands FZE | 170.65
All Others | 170.65

Critical Circumstances

With regard to the ITC's negative critical circumstances determination on imports of PC strand from Colombia, Egypt, the Netherlands, and Turkey, we will instruct CBP to lift suspension and to refund any cash deposits made to secure the payment of estimated antidumping duties with respect to entries of the subject merchandise entered, or withdrawn from warehouse, for consumption on or after July 2, 2020 (i.e., 90 days prior to the date of the publication of the Preliminary Determinations), but before September 30, 2020 (i.e., the date of publication of the Preliminary Determinations).

Provisional Measures

Section 733(d) of the Act states that suspension of liquidation pursuant to an affirmative preliminary determination may not remain in effect for more than four months, except that Commerce may extend the four-month period to no more than six months at the request of exporters representing a significant proportion of exports of the subject merchandise. Commerce's Preliminary Determinations were published on September 30, 2020.⁷ Commerce's Final Determinations were not extended and were published on December 11, 2020.⁸ As such, the four-month period beginning on the date of publication of the Preliminary Determinations ended on January 27, 2021.

⁷ See Preliminary Determinations.

⁸ See Final Determinations.

Therefore, in accordance with section 733(d) of the Act, Commerce will instruct CBP to terminate the suspension of liquidation, and to liquidate, without regard to antidumping duties, unliquidated entries of PC strand from Argentina, Colombia, Egypt, the Netherlands, Saudi Arabia, Taiwan, Turkey, and the UAE entered or withdrawn from warehouse for consumption after January 27, 2021, the date on which the provisional measures expired, through the day preceding the date of publication of the ITC's final affirmative injury determinations in the Federal Register. Suspension of liquidation will resume on the date of publication of the ITC's final affirmative injury determinations in the Federal Register.

Notification to Interested Parties

This notice constitutes the antidumping duty orders with respect to PC strand from Argentina, Colombia, Egypt, the Netherlands, Saudi Arabia, Taiwan, Turkey, and the UAE pursuant to section 736(a) of the Act. Interested parties can find a list of antidumping duty orders currently in effect at http://enforcement.trade.gov/stats/iastats1.html.

These orders are published in accordance with section 736(a) of the Act and 19 CFR 351.211(b).

Dated: January 26, 2021.
Christian Marsh,
Acting Assistant Secretary for Enforcement and Compliance.

Appendix

Scope of the Orders

The merchandise covered by these orders is prestressed concrete steel wire strand (PC strand), produced from wire of non-stainless, non-galvanized steel, which is suitable for use in prestressed concrete (both pretensioned and post-tensioned) applications. The product definition encompasses covered and uncovered strand and all types, grades, and diameters of PC strand. PC strand is normally sold in the United States in sizes ranging from 0.25 inches to 0.70 inches in diameter. PC strand made from galvanized wire is only excluded from the scope if the zinc and/or zinc oxide coating meets or exceeds the 0.40 oz./ft2 standard set forth in ASTM-A-475.

The PC strand subject to these orders is currently classifiable under subheadings 7312.10.3010 and 7312.10.3012 of the Harmonized Tariff Schedule of the United States (HTSUS). Although the HTSUS subheadings are provided for convenience and customs purposes, the written description of the scope of these orders is dispositive.

[FR Doc. 2021-02081 Filed 1-29-21; 8:45 am]

BILLING CODE 3510-DS-P